DEPARTMENT OF DEFENSE

Department of the Army

Final Legislative Environmental Impact Statement for Requested Public Land Withdrawal in Vicinity of Highway 95, Yuma Proving Ground, Arizona (ID# EISX-007-21-001-1751379204)

AGENCY: Department of the Army, DoD.

ACTION: Notice of availability.

SUMMARY: The U.S. Department of the Army (Army) announces the availability of the Final Legislative Environmental Impact Statement (LEIS) for Requested Public Land Withdrawal in Vicinity of Highway 95, Yuma Proving Ground, Arizona. In accordance with the National Environmental Policy Act (NEPA), the LEIS analyzes the potential environmental effects resulting from the withdrawal and reservation for military purposes of approximately 22,000 acres of public land managed by the U.S. Department of the Interior, Bureau of Land Management (BLM). If enacted into law by Congress, the withdrawal would add acreage to the existing Yuma Proving Ground (YPG). The Army requires the additional land as a safety buffer for testing advanced air delivery technologies and aviation systems. An LEIS has been prepared for this proposed action because the withdrawal and reservation require congressional action for implementation.

ADDRESSES: The Final LEIS can be viewed at: (1) Main Yuma Library, 2951 S 21st Dr., Yuma, AZ 85364; (2) Quartzsite Public Library, 465 N Plymouth Ave., Quartzsite, AZ 85346.

The Final LEIS also is available as an electronic file on the YPG project website: https://ypg-environmental.com/highway-95-land-withdrawal-leis/.

FOR FURTHER INFORMATION CONTACT: Daniel Steward, YPG Environmental Sciences Division, via email at usarmy.ypg.imcom.mbx.nepa@army.mil or via phone at (928) 328-2125.

SUPPLEMENTARY INFORMATION: Under the Engle Act, only Congress can approve a requested withdrawal of more than 5,000 acres of land in the aggregate for any one defense project or facility. A Record of Decision will not be prepared because Congress is the decision-maker for this requested action. The LEIS will be submitted to Congress, which will express its decision either by passing legislation to approve its selected alternative or by taking no action.

The Draft LEIS was made available for public review and comment for 45 days between March 1, 2024, and April 15, 2024. Two virtual public hearings were held on March 26 and March 27, 2024. One member of the public attended each of the hearings. The Army received eight comments on the Draft LEIS. The comments were reviewed and responses to the substantive comments were developed and included in the Final LEIS at Appendix S.

YPG is located in the southwestern corner of Arizona, near the California-Arizona border. The Colorado River bounds it to the west and the Gila River bounds it to the south. The installation lies approximately 23 miles northeast of the city of Yuma, Arizona. YPG is situated in both La Paz and Yuma Counties, Arizona, and the requested 22,000-acre withdrawal involves land in each county. YPG occupies about 1,300 square miles and extends approximately 60 miles north to south and 50 miles east to west. YPG's mission is to plan, conduct, assess, analyze, report, and support developmental, production, and operational tests on the following: medium- and long-range artillery; aircraft target acquisition equipment and armament; armored tracked and wheeled vehicles; a variety of munitions; and parachute systems for personnel and supplies. YPG also provides training support to the Army, other Department of Defense branches, other federal agencies, and international and commercial customers.

The Final LEIS analyzes potential impacts from a possible legislative withdrawal and reservation for military purposes of approximately 22,000 acres of public land managed by the BLM. The requested action involves the withdrawal of the land from all forms of appropriation (such as mining claims) and an additional 800 acres of federal surface estate (meaning the subsurface is not included). The land lies between the current boundary of the YPG and a section of Highway 95 between mile marker 76 and mile marker 91. The Army requires the additional land as a safety buffer to improve public safety and meet testing and training requirements based on advances in parachute technologies. If enacted into law, the withdrawal would add to—and be adjacent to—the 829,565 acres withdrawn on July 1, 1952, under Public Land Order No. 848, as amended, for use by the Army in connection with Yuma Test Station (currently known as YPG). The Army is requesting that the duration of the 22,000-acre withdrawal be for an indefinite period—i.e., until there is no longer a military need for the land.

The purpose of the requested land withdrawal is to provide additional area to support testing and training at YPG. The Army requires the additional land as a safety buffer for testing advanced air delivery technologies and aviation systems. A surface safety zone is an area in space and on the ground that provides a buffer in case of error or failure during testing and training. Surface safety zones protect people from being injured by material dropping from the sky during air delivery testing and training. The additional land will provide for a larger surface safety zone and allow the Army to execute more complex air delivery and tactical scenarios than are currently possible. Higher altitudes and greater offset distances are required to test parachute systems' full capabilities, and this requires a correspondingly greater surface safety zone.

Currently, due to land and airspace limitations, systems are not tested to their full capability for altitude and precision. Without the requested withdrawal, mission-required drops could land outside the current YPG boundary and result in injury or death to members of the public. The requested land withdrawal would restrict the public from accessing hazardous areas, thus reducing the potential for such injuries and deaths.

The boundary between YPG and BLM land lacks a contiguous physical landmark demarcating the two areas, which has led to unintentional public intrusions onto YPG. The requested withdrawal area extends to Highway 95 and would establish the highway as a distinct physical landmark for the YPG boundary, thereby improving public safety.

In addition to the Army's proposed action, the Final LEIS analyzes an alternative for a withdrawal of a shorter period and a No-Action Alternative.

Under limited-duration withdrawal, Congress would withdraw and reserve for Army use the same area, with the same boundary and land management provisions as the proposed action, but the duration of the Highway 95 withdrawal would be limited to a shorter period (i.e., 25 years) rather than being of indefinite duration.

No-Action Alternative: Congress would not enact legislation to withdraw and reserve the land as requested. The BLM would retain management responsibility for the 22,000 acres of public lands. Under this alternative, YPG would not meet mission requirements, but limited military testing and training would continue within the present-day YPG boundary. While the No-Action Alternative would not satisfy the purpose of or need for the proposed action, this alternative was retained to provide a comparative baseline against which to analyze the effects of the action alternatives.

The Final LEIS evaluates the potential direct, indirect, and cumulative environmental and socioeconomic effects of the proposed action. The resource areas and effects analyzed in the Final LEIS include biological resources, cultural resources, existing land use, recreation, socioeconomics, air quality, greenhouse gas, and environmental justice. The analysis includes minimization measures, standard operating procedures, and best management practices routinely employed by YPG to reduce potential adverse effects of the proposed action.

The air quality, greenhouse gas, and environmental justice analyses were prepared according to now-rescinded Executive Orders, the Council on Environmental Quality's NEPA implementing regulations, which have been rescinded, and the Army's NEPA implementing regulation, which has also been rescinded. Because analysis regarding air quality, greenhouse gases, and environmental justice was already provided to the public for comment, such analysis is included in the Final LEIS for purposes of consistency and clarity.

Under the proposed action (i.e., the withdrawal of BLM lands for an indefinite duration), there would be less-than-significant effects on all evaluated resources. The withdrawal alternatives would result in minor adverse effects to land use and recreation, but none of the effects would be significant. The proposed action would transfer management of these lands from one federal agency to another and the Army's environmental compliance requirements would be the same as those for the BLM. If the withdrawal is approved by Congress, the Army would conduct consultation on future actions under the National Historic Preservation Act and the Endangered Species Act, as appropriate.

The environmental effects from the shorter-duration withdrawal alternative would be comparable to those discussed for the proposed action, but for a specific duration.

Federal, state, and local agencies, federally-recognized Indian Tribes and other Native American organizations, and the general public were invited to be involved in the public comment process for the Draft LEIS. The public comment period began with the publication of a Notice of Availability of the Draft LEIS in the Federal Register. The Army held two virtual public meetings during the review period. The Army considered all comments received on the Draft LEIS when preparing the Final LEIS.

Congress will receive the Final LEIS as part of the withdrawal case file, in coordination with the Department of the Interior, to support this proposed withdrawal. Congress will make the decision on whether to authorize the requested land withdrawal and reservation.

(Authority: 42 U.S.C. 4321 et seq. (1969).)

James W. Satterwhite, Jr.,
U.S. Army Federal Register Liaison Officer.

[FR Doc. 2025-14484 Filed 7-30-25; 8:45 am]

BILLING CODE 3711-CC-P